DEPARTMENT OF HOMELAND SECURITY

Coast Guard

33 CFR Part 117

[Docket No. USCG-2017-0524]

Drawbridge Operation Regulation; Mill River, New Haven, CT

AGENCY: Coast Guard, DHS.

ACTION: Notice of deviation from drawbridge regulation.

SUMMARY: The Coast Guard has issued a temporary deviation from the operating schedule that governs the Chapel Street Bridge across the Mill River, mile 0.4 at New Haven, Connecticut. This deviation is necessary to complete bridge deck replacement as well as various repairs. This deviation allows the bridge to open for the passage of vessels upon two hours of advance notice as well as a ten day closure of the draw to all vessel traffic.

DATES: This deviation is effective from 12:01 a.m. on July 10, 2017 through 11:59 p.m. on September 9, 2017.

ADDRESSES: The docket for this deviation, USCG-2017-0524, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The City of New Haven, the owner of the bridge, requested a temporary deviation from the normal operating schedule to facilitate rehabilitation of the bridge, specifically replacement of the bridge deck. The Chapel Street Bridge, across the Mill River, mile 0.4 at New Haven, Connecticut offers mariners a vertical clearance of 7.9 feet at mean high water and 14 feet at mean low water in the closed position. The existing drawbridge operating regulations are listed at 33 CFR 117.213(d).

Under this temporary deviation the Chapel Street Bridge will operate as follows: From 12:01 a.m. July 10, 2017 until 11:59 p.m. July 26, 2017, the Chapel Street Bridge will open for the passage of vessels requiring an opening provided two hours of advance notice is furnished to the owner of the bridge; except that, from 7:30 a.m. to 8:30 a.m. and 4:45 p.m. to 5:45 p.m., Monday through Friday, except Federal holidays, the draw need not open for the passage of vessel traffic. The bridge will remain closed to all vessels requiring an opening from 12:01 a.m. July 27, 2017 until 11:59 p.m. August 7, 2017 to facilitate the pouring/curing of new bridge deck material. From 12:01 a.m. August 8, 2017 until 11:59 p.m. September 9, 2017 the bridge will open for the passage of vessels requiring an opening provided two hours of advance notice is furnished to the owner of the bridge; except that from 7:30 a.m. to 8:30 a.m. and 4:45 p.m. to 5:45 p.m., Monday through Friday, except Federal holidays, the draw need not open for the passage of vessel traffic.

The bridge routinely opens for commercial vessels. Nevertheless, outreach with mariners has indicated the requirement for two hours of advance notice will not impede routine waterway operations. Mariners also offered no objection to a ten day closure of the draw in order to complete the necessary deck replacement. The concrete pour and curing process can be accomplished in four days, but a ten day closure period has been requested in order to take inclement weather into account. The bridge will resume operations as soon as the curing process has been completed.

Vessels that can pass under the bridge without an opening may do so at all times. The bridge will be not able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 30, 2017.
C.J. Bisignano,
Supervisory Bridge Management Specialist, First Coast Guard District.

[FR Doc. 2017-14164 Filed 7-5-17; 8:45 am]

BILLING CODE 9110-04-P